DEPARTMENT OF COMMERCE

National Oceanic and Atmospheric Administration

50 CFR Part 679

[Docket No. 040907255-4343-02; I.D. 082704E]

RIN 0648-AS41

Fisheries of the Exclusive Economic Zone Off Alaska; Revision of Steller Sea Lion Protection Measures for the Pollock and Pacific Cod Fisheries in the Gulf of Alaska

AGENCY: National Marine Fisheries Service (NMFS), National Oceanic and Atmospheric Administration (NOAA), Commerce.

ACTION: Final rule.

SUMMARY: NMFS publishes a final rule that revises Steller sea lion protection measures for the pollock and Pacific cod fisheries in the Gulf of Alaska (GOA). The revisions adjust Pacific cod and pollock fishing closure areas near four Steller sea lion haulouts and modify the seasonal management of pollock harvest in the GOA. The intent of the revisions is to maintain protection for Steller sea lions and their critical habitat while easing the economic burden on GOA fishing communities. This action is intended to promote the goals and objectives of the Magnuson-Stevens Fishery Conservation and Management Act (Magnuson-Stevens Act), the Fishery Management Plan for Groundfish of the Gulf of Alaska (FMP), and other applicable laws.

DATES: Effective January 19, 2005.

ADDRESSES: Copies of the Environmental Assessment/Regulatory Impact Review (EA/RIR) prepared for the rule and copies of the 2000 and 2001 Biological Opinions, and the June 19, 2003 supplement to the 2001 Biological Opinion, on the effects of the groundfish fisheries on Steller sea lions may be obtained from NMFS, Alaska Region, P.O. Box 21668, Juneau, AK 99802, Attn: Lori Durall, or from the NMFS Alaska Region website at www.fakr.noaa.gov.

FOR FURTHER INFORMATION CONTACT: Melanie Brown, 907-586-7228 or melanie.brown@noaa.gov.

SUPPLEMENTARY INFORMATION: The groundfish fisheries in the Exclusive Economic Zone of the GOA are managed under the FMP. The North Pacific Fishery Management Council (Council) prepared the FMP under the authority of the Magnuson-Stevens Act, 16 U.S.C. 1801, et seq. Regulations implementing the FMP appear at 50 CFR part 679. General regulations governing U.S. fisheries also appear at 50 CFR part 600.

Background

The western distinct population segment (DPS) of Steller sea lions has been listed as endangered under the Endangered Species Act (ESA), and critical habitat has been designated for this DPS (50 CFR 226.202). Temporal and spatial harvest restrictions were established for the groundfish fisheries of Alaska (68 FR 204, January 2, 2003) to protect Steller sea lions from jeopardy of extinction and their critical habitat from adverse modification or destruction from the effects of these fisheries. Pollock and Pacific cod are important prey species for Steller sea lions, and these protection measures apply to the pollock and Pacific cod fisheries in the GOA.

In June 2004, the Council unanimously recommended revisions to the Steller sea lion protection measures in the GOA to alleviate some of the economic burden on coastal communities while maintaining protection for Steller sea lions and their critical habitat. These revisions adjust pollock and Pacific cod fishing closures near four Steller sea lion haulouts and revise seasonal management of pollock harvest. NMFS concluded that fishing under the proposed revisions is not likely to affect Steller sea lions or their critical habitat beyond those effects already considered in the 2000 FMP Biological Opinion (BiOp), the 2001 BiOp on the Steller sea lion protection measures, and the June 19, 2003 supplement to the 2001 BiOp (see ADDRESSES). NMFS has determined that this action could provide some economic relief to participants in the pollock and Pacific cod fisheries while maintaining protection for Steller sea lions and their critical habitat.

The proposed rule for this action was published in the Federal Register on September 21, 2004 (69 FR 56384) with a comment period ending October 21, 2004. The details of each regulatory revision are contained in the proposed rule for this action. No changes were made from the proposed rule in the final rule.

Comments and Responses

Three emails and two letters containing seven separate comments were received regarding the proposed rule. The comments are summarized and responded to below.

Comment 1: The commercial fishers are taking all of the fish so the Steller sea lions have nothing to eat. The commercial fishers should be thrown out of the GOA.

Response: Several species of groundfish, notably pollock and Pacific cod, are important prey species for Steller sea lions in the GOA and are also targeted by the GOA groundfish fisheries. The pollock and Pacific cod fisheries potentially compete with Steller sea lions by reducing the availability of prey for foraging sea lions. However, this potential competition between commercial fishers and Steller sea lions for pollock and Pacific cod is addressed by regulations that limit the total amount of catch and impose temporal and spatial controls on harvest. These Steller sea lion protection measures are designed to preserve prey abundance and availability for foraging sea lions.

Comment 2: The fishers are catching double what they are reporting, and no one checks that what they have on board is what they are reporting. When checked, the amount of fish on board is usually double what they have reported. Vessels should be seized, and the captain and crew should be jailed for a year for abusing the sacred trust to responsibly harvest groundfish.

Response: NMFS disagrees with the commentor's assertion that groundfish fishers systematically under-report their catch. The recordkeeping and reporting requirements in these fisheries are comprehensive, and NMFS and United States Coast Guard law enforcement officers conduct numerous vessel boardings each year. Reporting violations occur, but they are relatively rare and are prosecuted pursuant to the Magnuson-Stevens Act.

Comment 3: Quotas should be cut by 50 percent the first year and 10 percent each year after. Overfishing is occurring. Marine sanctuaries should be established.

Response: This action revises certain Steller sea lion protection measures in the GOA, but does not specify groundfish harvest levels. The specification of harvest levels is done by separate rulemaking during the harvest specifications process. NMFS encourages the commentor to submit comments on the proposed 2005 and 2006 fishery specifications when they are published in the Federal Register for public comment. However, NMFS disagrees with the commentor's assertion that overfishing is occurring in the groundfish fisheries. NMFS manages these fisheries on a sustainable basis and notes that none of the groundfish stocks off Alaska is overfished. Additionally, this action does not address the creation of marine sanctuaries. The January 2004 draft environmental impact statement for essential fish habitat discusses the effects of fishing on sensitive habitat features and evaluates a range of options for minimizing adverse effects, such as closing areas of rockfish habitat to bottom trawling. Further information on this draft EIS may be found at the NMFS Alaska Region website at www.fakr.noaa.gov.

Comment 4: The Pew Foundation reports on overfishing and regional fishery management council bias and the United Nations report on overfishing are incorporated into the comments from this commentor.

Response: This action raises no issues related to overfishing or the membership of regional fishery management councils. The commentor's specific concerns and their relationship to these reports are not presented by the commentor. Because no further details are provided by the commentor, NMFS is unable to respond further to this comment.

Comment 5: The Council's decision to reduce Steller sea lion protection measures is an outrage. The protection measures were made years ago solely for the protection of Steller sea lions. To make changes now for the benefit of the fishing fleet is an outrage because the Steller sea lions are still listed as endangered. Policy was made and should be followed and not changed for the industry's benefit.

Response: NMFS disagrees with the commentor's assertion that this action fails to protect Steller sea lions and their critical habitat. The Steller sea lion protection measures were expected to be periodically reviewed and potentially changed based on new information regarding Steller sea lions and the fishing industry. NMFS has worked with the Council to identify impacts on the industry and new information that may lead to adapting the protection measures to ensure efficient and safe groundfish harvest while protecting Steller sea lions and their critical habitat. NMFS has determined that by revising the Pacific cod and pollock closure areas and improving the seasonal management of pollock with this final rule, the protection measures continue to protect Steller sea lions and their critical habitat from the potential effects of the pollock and Pacific cod fisheries.

Comment 6: Revisions to ESA protection measures should come from sound, scientific, factual evidence. The basis of any revisions should not be on “informal consultations,” on findings of “not likely to adversely affect,” or on “could provide economic relief.” NMFS should reconsider all of the proposed changes.

Response: NMFS agrees that agency decisions should be based on the best available scientific information. NMFS has used the best available scientific information in the development of this action and has reasonably determined that the revised measures adequately protect Steller sea lions and their critical habitat. Unfortunately, the best available scientific information frequently does not provide unequivocal answers regarding the effects of fisheries on the environment. NMFS has no additional information to justify reconsidering this action.

Comment 7: We support the proposed action. Revising the Steller sea lion protection measures will alleviate some economic burden on GOA communities and maintain protection for Steller sea lions. We hope the changes may be made in time for the 2005 fishing year.

Response: NMFS acknowledges the commentors' interest in alleviating economic burdens on GOA communities while maintaining protection for Steller sea lions and has strived to implement this final rule by early 2005.

Classification

This rule has been determined to be not significant for the purposes of Executive Order 12866.

The Chief Counsel for Regulation of the Department of Commerce certified to the Chief Counsel for Advocacy of the Small Business Administration during the proposed rule stage that this action would not have a significant economic impact on a substantial number of small entities. No comments were received regarding this certification. As a result, a regulatory flexibility analysis was not required and none prepared.

Small Entity Compliance Guide

This action revises 50 CFR part 679 which describes the Steller sea lion protection measures for the Alaska groundfish fisheries. This action requires small entities in the pollock and Pacific cod fisheries to comply with the amended closure areas near four Steller sea lion haulouts. To facilitate compliance with all of the Steller sea lion protection area restrictions, NMFS provides a series of maps showing the closure areas and links to the regulations that may be viewed and downloaded at http://www.fakr.noaa.gov/sustainablefisheries/2003hrvstspecssl.htm.

List of Subjects in 50 CFR Part 679

Alaska, Fisheries, Recordkeeping and reporting requirements.

Dated: December 13, 2004.
Rebecca Lent,
Deputy Assistant Administrator for Regulatory Programs, National Marine Fisheries Service.

For reasons set out in the preamble, 50 CFR part 679 is amended as follows:

PART 679—FISHERIES OF THE EXCLUSIVE ECONOMIC ZONE OFF ALASKA

1. The authority citation for part 679 continues to read as follows:

Authority: Authority: 16 U.S.C. 773 et seq., 1801 et seq., and 3631 et seq.; 16 U.S.C. 1540(f); Pub. L. 105-277, Title II of Division C; Pub. L. 106-31, Sec. 3027; Pub. L.106-554, Sec. 209; and Pub. L. 108-199, Sec. 803.

2. In § 679.20, paragraph (a)(5)(iii)(B) is revised to read as follows:

§ 679.20 General limitations.

* * * * *

(a) * * *

(5) * * *

(iii) * * *

(B) GOA Western and Central Regulatory Areas seasonal apportionments. Each apportionment established under paragraph (a)(5)(iii)(A) of this section will be divided into four seasonal apportionments corresponding to the four fishing seasons set out at § 679.23(d)(2) as follows: A Season, 25 percent; B Season, 25 percent; C Season, 25 percent; and D Season, 25 percent. Within any fishing year, underharvest or overharvest of a seasonal apportionment may be added to or subtracted from remaining seasonal apportionments in a manner to be determined by the Regional Administrator, provided that any revised seasonal apportionment does not exceed 20 percent of the seasonal TAC apportionment for the statistical area. The reapportionment of underharvest will be applied to the subsequent season within the same statistical area up to the 20 percent limit specified in this paragraph. Any underharvest remaining beyond the 20 percent limit may be further apportioned to the subsequent season in the other statistical areas, in proportion to estimated biomass and in an amount no more than 20 percent of the seasonal TAC apportionment for the statistical area.

* * * * *

3. In § 679.23, paragraphs (d)(2)(i) and (d)(2)(iii) are revised to read as follows:

§ 679.23 Seasons.

* * * * *

(d) * * *

(2) * * *

(i) A season. From 1200 hours, A.l.t., January 20 through 1200 hours, A.l.t., March 10;

* * * * *

(iii) C season. From 1200 hours, A.l.t., August 25 through 1200 hours, A.l.t., October 1; and

* * * * *

4. Tables 4 and 5 to part 679 are revised to read as follows:

Table 4 to 50 CFR Part 679 Steller Sea Lion Protection Areas Pollock Fisheries Restrictions
Column Number 1: Site Name | 2: Area or Subarea | 3: Boundaries from Latitude | 4: Boundaries from Longitude | 5: Boundaries to¹ Latitude | 6: Boundaries to¹ Longitude | 7: Pollock No-fishing Zones for Trawl Gear²,⁸ (nm)
St. Lawrence I./S Punuk I. | Bering Sea | 63 04.00 N | 168 51.00 W |  |  | 20
St. Lawrence I./SW Cape | Bering Sea | 63 18.00 N | 171 26.00 W |  |  | 20
Hall I. | Bering Sea | 60 37.00 N | 173 00.00 W |  |  | 20
St. Paul I./Sea Lion Rock | Bering Sea | 57 06.00 N | 170 17.50 W |  |  | 3
St. Paul I./NE Pt. | Bering Sea | 57 15.00 N | 170 06.50 W |  |  | 3
Walrus I. (Pribilofs) | Bering Sea | 57 11.00 N | 169 56.00 W |  |  | 10
St. George I./Dalnoi Pt. | Bering Sea | 56 36.00 N | 169 46.00 W |  |  | 3
St. George I./S Rookery | Bering Sea | 56 33.50 N | 169 40.00 W |  |  | 3
Cape Newenham | Bering Sea | 58 39.00 N | 162 10.50 W |  |  | 20
Round (Walrus Islands) | Bering Sea | 58 36.00 N | 159 58.00 W |  |  | 20
Attu I./Cape Wrangell | Aleutian I. | 52 54.60 N | 172 27.90 E | 52 55.40 N | 172 27.20 E | 20
Agattu I./Gillon Pt. | Aleutian I. | 52 24.13 N | 173 21.31 E |  |  | 20
Attu I./Chirikof Pt. | Aleutian I. | 52 49.75 N | 173 26.00 E |  |  | 20
Agattu I./Cape Sabak | Aleutian I. | 52 22.50 N | 173 43.30 E | 52 21.80 N | 173 41.40 E | 20
Alaid I. | Aleutian I. | 52 46.50 N | 173 51.50 E | 52 45.00 N | 173 56.50 E | 20
Shemya I. | Aleutian I. | 52 44.00 N | 174 08.70 E |  |  | 20
Buldir I. | Aleutian I. | 52 20.25 N | 175 54.03 E | 52 20.38 N | 175 53.85 E | 20
Kiska I./Cape St. Stephen | Aleutian I. | 51 52.50 N | 177 12.70 E | 51 53.50 N | 177 12.00 E | 20
Kiska I./Sobaka & Vega | Aleutian I. | 51 49.50 N | 177 19.00 E | 51 48.50 N | 177 20.50 E | 20
Kiska I./Lief Cove | Aleutian I. | 51 57.16 N | 177 20.41 E | 51 57.24 N | 177 20.53 E | 20
Kiska I./Sirius Pt. | Aleutian I. | 52 08.50 N | 177 36.50 E |  |  | 20
Tanadak I. (Kiska) | Aleutian I. | 51 56.80 N | 177 46.80 E |  |  | 20
Segula I. | Aleutian I. | 51 59.90 N | 178 05.80 E | 52 03.06 N | 178 08.80 E | 20
Ayugadak Point | Aleutian I. | 51 45.36 N | 178 24.30 E |  |  | 20
Rat I./Krysi Pt. | Aleutian I. | 51 49.98 N | 178 12.35 E |  |  | 20
Little Sitkin I. | Aleutian I. | 51 59.30 N | 178 29.80 E |  |  | 20
Amchitka I./Column Rocks | Aleutian I. | 51 32.32 N | 178 49.28 E |  |  | 20
Amchitka I./East Cape | Aleutian I. | 51 22.26 N | 179 27.93 E | 51 22.00 N | 179 27.00 E | 20
Amchitka I./Cape Ivakin | Aleutian I. | 51 24.46 N | 179 24.21 E |  |  | 20
Semisopochnoi/Petrel Pt. | Aleutian I. | 52 01.40 N | 179 36.90 E | 52 01.50 N | 179 39.00 E | 20
Semisopochnoi I./Pochnoi Pt. | Aleutian I. | 51 57.30 N | 179 46.00 E |  |  | 20
Amatignak I. Nitrof Pt. | Aleutian I. | 51 13.00 N | 179 07.80 W |  |  | 20
Unalga & Dinkum Rocks | Aleutian I. | 51 33.67 N | 179 04.25 W | 51 35.09 N | 179 03.66 W | 20
Ulak I./Hasgox Pt. | Aleutian I. | 51 18.90 N | 178 58.90 W | 51 18.70 N | 178 59.60 W | 20
Kavalga I. | Aleutian I. | 51 34.50 N | 178 51.73 W | 51 34.50 N | 178 49.50 W | 20
Tag I. | Aleutian I. | 51 33.50 N | 178 34.50 W |  |  | 20
Ugidak I. | Aleutian I. | 51 34.95 N | 178 30.45 W |  |  | 20
Gramp Rock | Aleutian I. | 51 28.87 N | 178 20.58 W |  |  | 20
Tanaga I./Bumpy Pt. | Aleutian I. | 51 55.00 N | 177 58.50 W | 51 55.00 N | 177 57.10 W | 20
Bobrof I. | Aleutian I. | 51 54.00 N | 177 27.00 W |  |  | 20
Kanaga I./Ship Rock | Aleutian I. | 51 46.70 N | 177 20.72 W |  |  | 20
Kanaga I./North Cape | Aleutian I. | 51 56.50 N | 177 09.00 W |  |  | 20
Adak I. | Aleutian I. | 51 35.50 N | 176 57.10 W | 51 37.40 N | 176 59.60 W | 20
Little Tanaga Strait | Aleutian I. | 51 49.09 N | 176 13.90 W |  |  | 20
Great Sitkin I. | Aleutian I. | 52 06.00 N | 176 10.50 W | 52 06.60 N | 176 07.00 W | 20
Anagaksik I. | Aleutian I. | 51 50.86 N | 175 53.00 W |  |  | 20
Kasatochi I. | Aleutian I. | 52 11.11 N | 175 31.00 W |  |  | 20
Atka I./North Cape | Aleutian I. | 52 24.20 N | 174 17.80 W |  |  | 20
Amlia I./Sviech. Harbor¹¹ | Aleutian I. | 52 01.80 N | 173 23.90 W |  |  | 20
Sagigik I.¹¹ | Aleutian I. | 52 00.50 N | 173 09.30 W |  |  | 20
Amlia I./East¹¹ | AIX | 52 05.70 N | 172 59.00 W | 52 05.75 N | 172 57.50 W | 20
Tanadak I. (Amlia¹¹) | Aleutian I. | 52 04.20 N | 172 57.60 W |  |  | 20
Agligadak I.¹¹ | Aleutian I. | 52 06.09 N | 172 54.23 W |  |  | 20
Seguam I./Saddleridge Pt.¹¹ | Aleutian I. | 52 21.05 N | 172 34.40 W | 52 21.02 N | 172 33.60 W | 20
Seguam I./Finch Pt. | Aleutian I. | 52 23.40 N | 172 27.70 W | 52 23.25 N | 172 24.30 W | 20
Seguam I./South Side | Aleutian I. | 52 21.60 N | 172 19.30 W | 52 15.55 N | 172 31.22 W | 20
Amukta I. & Rocks | Aleutian I. | 52 27.25 N | 171 17.90 W |  |  | 20
Chagulak I. | Aleutian I. | 52 34.00 N | 171 10.50 W |  |  | 20
Yunaska I. | Aleutian I. | 52 41.40 N | 170 36.35 W |  |  | 20
Uliaga³ | Bering Sea | 53 04.00 N | 169 47.00 W | 53 05.00 N | 169 46.00 W | 20,10
Chuginadak | Gulf of Alaska | 52 46.70 N | 169 41.90 W |  |  | 20
Kagamil³ | Bering Sea | 53 02.10 N | 169 41.00 W |  |  | 20,10
Samalga | Gulf of Alaska | 52 46.00 N | 169 15.00 W |  |  | 20
Adugak I.³ | Bering Sea | 52 54.70 N | 169 10.50 W |  |  | 10
Umnak I./Cape Aslik³ | Bering Sea | 53 25.00 N | 168 24.50 W |  |  | BA
Ogchul I. | Gulf of Alaska | 52 59.71 N | 168 24.24 W |  |  | 20
Bogoslof I./Fire I.³ | Bering Sea | 53 55.69 N | 168 02.05 W |  |  | BA
Polivnoi Rock | Gulf of Alaska | 53 15.96 N | 167 57.99 W |  |  | 20
Emerald I. | Gulf of Alaska | 53 17.50 N | 167 51.50 W |  |  | 20
Unalaska/Cape Izigan | Gulf of Alaska | 53 13.64 N | 167 39.37 W |  |  | 20
Unalaska/Bishop Pt.9 | Bering Sea | 53 58.40 N | 166 57.50 W |  |  | 10
Akutan I./Reef-lava⁹ | Bering Sea | 54 08.10 N | 166 06.19 W | 54 09.10 N | 166 05.50 W | 10
Unalaska I./Cape Sedanka⁶ | Gulf of Alaska | 53 50.50 N | 166 05.00 W |  |  | 20
Old Man Rocks⁶ | Gulf of Alaska | 53 52.20 N | 166 04.90 W |  |  | 20
Akutan I./Cape Morgan⁶ | Gulf of Alaska | 54 03.39 N | 165 59.65 W | 54 03.70 N | 166 03.68 W | 20
Akun I./Billings Head⁹ | Bering Sea | 54 17.62 N | 165 32.06 W | 54 17.57 N | 165 31.71 W | 10
Rootok⁶ | Gulf of Alaska | 54 03.90 N | 165 31.90 W | 54 02.90 N | 165 29.50 W | 20
Tanginak I.⁶ | Gulf of Alaska | 54 12.00 N | 165 19.40 W |  |  | 20
Tigalda/Rocks NE⁶ | Gulf of Alaska | 54 09.60 N | 164 59.00 W | 54 09.12 N | 164 57.18 W | 20
Unimak/Cape Sarichef⁹ | Bering Sea | 54 34.30 N | 164 56.80 W |  |  | 10
Aiktak⁶ | Gulf of Alaska | 54 10.99 N | 164 51.15 W |  |  | 20
Ugamak I.⁶ | Gulf of Alaska | 54 13.50 N | 164 47.50 W | 54 12.80 N | 164 47.50 W | 20
Round (GOA)⁶ | Gulf of Alaska | 54 12.05 N | 164 46.60 W |  |  | 20
Sea Lion Rock (Amak)⁹ | Bering Sea | 55 27.82 N | 163 12.10 W |  |  | 10
Amak I. And rocks⁹ | Bering Sea | 55 24.20 N | 163 09.60 W | 55 26.15 N | 163 08.50 W | 10
Bird I. | Gulf of Alaska | 54 40.00 N | 163 17.2 W |  |  | 10
Caton I. | Gulf of Alaska | 54 22.70 N | 162 21.30 W |  |  | 3
South Rocks | Gulf of Alaska | 54 18.14 N | 162 41.3 W |  |  | 10
Clubbing Rocks (S) | Gulf of Alaska | 54 41.98 N | 162 26.7 W |  |  | 10
Clubbing Rocks (N) | Gulf of Alaska | 54 42.75 N | 162 26.7 W |  |  | 10
Pinnacle Rock | Gulf of Alaska | 54 46.06 N | 161 45.85 W |  |  | 3
Sushilnoi Rocks | Gulf of Alaska | 54 49.30 N | 161 42.73 W |  |  | 10
Olga Rocks | Gulf of Alaska | 55 00.45 N | 161 29.81 W | 54 59.09 N | 161 30.89 W | 10
Jude I. | Gulf of Alaska | 55 15.75 N | 161 06.27 W |  |  | 20
Sea Lion Rocks (Shumagins) | Gulf of Alaska | 55 04.70 N | 160 31.04 W |  |  | 3
Nagai I./Mountain Pt. | Gulf of Alaska | 54 54.20 N | 160 15.40 W | 54 56.00 N | 160 15.00 W | 3
The Whaleback | Gulf of Alaska | 55 16.82 N | 160 05.04 W |  |  | 3
Chernabura I. | Gulf of Alaska | 54 45.18 N | 159 32.99 W | 54 45.87 N | 159 35.74 W | 20
Castle Rock | Gulf of Alaska | 55 16.47 N | 159 29.77 W |  |  | 3
Atkins I. | Gulf of Alaska | 55 03.20 N | 159 17.40 W |  |  | 20
Spitz I. | Gulf of Alaska | 55 46.60 N | 158 53.90 W |  |  | 3
Mitrofania | Gulf of Alaska | 55 50.20 N | 158 41.90 W |  |  | 3
Kak | Gulf of Alaska | 56 17.30 N | 157 50.10 W |  |  | 20
Lighthouse Rocks | Gulf of Alaska | 55 46.79 N | 157 24.89 W |  |  | 20
Sutwik I. | Gulf of Alaska | 56 31.05 N | 157 20.47 W | 56 32.00 N | 157 21.00 W | 20
Chowiet I. | Gulf of Alaska | 56 00.54 N | 156 41.42 W | 55 00.30 N | 156 41.60 W | 20
Nagai Rocks | Gulf of Alaska | 55 49.80 N | 155 47.50 W |  |  | 20
Chirikof I. | Gulf of Alaska | 55 46.50 N | 155 39.50 W | 55 46.44 N | 155 43.46 W | 20
Puale Bay¹² | Gulf of Alaska | 57 40.60 N | 155 23.10 W |  |  | 3,10
Kodiak/Cape Ikolik | Gulf of Alaska | 57 17.20 N | 154 47.50 W |  |  | 3
Takli I. | Gulf of Alaska | 58 01.75 N | 154 31.25 W |  |  | 10
Cape Kuliak | Gulf of Alaska | 58 08.00 N | 154 12.50 W |  |  | 10
Cape Gull | Gulf of Alaska | 58 11.50 N | 154 09.60 W | 58 12.50 N | 154 10.50 W | 10
Kodiak/Cape Ugat | Gulf of Alaska | 57 52.41 N | 153 50.97 W |  |  | 10
Sitkinak/Cape Sitkinak | Gulf of Alaska | 56 34.30 N | 153 50.96 W |  |  | 10
Shakun Rock | Gulf of Alaska | 58 32.80 N | 153 41.50 W |  |  | 10
Twoheaded I. | Gulf of Alaska | 56 54.50 N | 153 32.75 W | 56 53.90 N | 153 33.74 W | 10
Cape Douglas (Shaw I.)¹² | Gulf of Alaska | 59 00.00 N | 153 22.50 W |  |  | 20,10
Kodiak/Cape Barnabas | Gulf of Alaska | 57 10.20 N | 152 53.05 W |  |  | 3
Kodiak/Gull Point⁴ | Gulf of Alaska | 57 21.45 N | 152 36.30 W |  |  | 10,3
Latax Rocks | Gulf of Alaska | 58 40.10 N | 152 31.30 W |  |  | 10
Ushagat I./SW | Gulf of Alaska | 58 54.75 N | 152 22.20 W |  |  | 10
Ugak I.⁴ | Gulf of Alaska | 57 23.60 N | 152 17.50 W | 57 21.90 N | 152 17.40 W | 10,3
Sea Otter I. | Gulf of Alaska | 58 31.15 N | 152 13.30 W |  |  | 10
Long I. | Gulf of Alaska | 57 46.82 N | 152 12.90 W |  |  | 10
Sud I. | Gulf of Alaska | 58 54.00 N | 152 12.50 W |  |  | 10
Kodiak/Cape Chiniak | Gulf of Alaska | 57 37.90 N | 152 08.25 W |  |  | 10
Sugarloaf I. | Gulf of Alaska | 58 53.25 N | 152 02.40 W |  |  | 20
Sea Lion Rocks (Marmot) | Gulf of Alaska | 58 20.53 N | 151 48.83 W |  |  | 10
Marmot I.⁵ | Gulf of Alaska | 58 13.65 N | 151 47.75 W | 58 09.90 N | 151 52.06 W | 15,20
Nagahut Rocks | Gulf of Alaska | 59 06.00 N | 151 46.30 W |  |  | 10
Perl | Gulf of Alaska | 59 05.75 N | 151 39.75 W |  |  | 10
Gore Point | Gulf of Alaska | 59 12.00 N | 150 58.00 W |  |  | 10
Outer (Pye) I. | Gulf of Alaska | 59 20.50 N | 150 23.00 W | 59 21.00 N | 150 24.50 W | 20
Steep Point | Gulf of Alaska | 59 29.05 N | 150 15.40 W |  |  | 10
Seal Rocks (Kenai) | Gulf of Alaska | 59 31.20 N | 149 37.50 W |  |  | 10
Chiswell Islands | Gulf of Alaska | 59 36.00 N | 149 34.00 W |  |  | 10
Rugged Island | Gulf of Alaska | 59 50.00 N | 149 23.10 W | 59 51.00 N | 149 24.70 W | 10
Point Elrington⁷,¹⁰ | Gulf of Alaska | 59 56.00 N | 148 15.20 W |  |  | 20
Perry I.⁷ | Gulf of Alaska | 60 44.00 N | 147 54.60 W |  |  |
The Needle⁷ | Gulf of Alaska | 60 06.64 N | 147 36.17 W |  |  |
Point Eleanor⁷ | Gulf of Alaska | 60 35.00 N | 147 34.00 W |  |  |
Wooded I. (Fish I.) | Gulf of Alaska | 59 52.90 N | 147 20.65 W |  |  | 20
Glacier Island⁷ | Gulf of Alaska | 60 51.30 N | 147 14.50 W |  |  |
Seal Rocks (Cordova)¹⁰ | Gulf of Alaska | 60 09.78 N | 146 50.30 W |  |  | 20
Cape Hinchinbrook¹⁰ | Gulf of Alaska | 60 14.00 N | 146 38.50 W |  |  | 20
Middleton I. | Gulf of Alaska | 59 28.30 N | 146 18.80 W |  |  | 10
Hook Point¹⁰ | Gulf of Alaska | 60 20.00 N | 146 15.60 W |  |  | 20
Cape St. Elias | Gulf of Alaska | 59 47.50 N | 144 36.20 W |  |  | 20
¹Where two sets of coordinates are given, the baseline extends in a clock-wise direction from the first set of geographic coordinates along the shoreline at mean lower-low water to the second set of coordinates. Where only one set of coordinates is listed, that location is the base point.
²Closures as stated in 50 CFR 679.22(a)(7)(iv), (a)(8)(ii) and (b)(2)(ii).
³This site lies within the Bogoslof area (BA). The BA consists of all waters of area 518 as described in Figure 1 of this part south of a straight line connecting 55°00′ N/170°00′ W, and 55°00′ N/168°11′4.75″ W. Closure to directed fishing for pollock around Uliaga and Kagamil is 20 nm for waters west of 170° W long. and 10 nm for waters east of 170° W long.
⁴The trawl closure between 0 nm to 10 nm is effective from January 20 through May 31. Trawl closure between 0 nm to 3 nm is effective from August 25 through November 1.
⁵Trawl closure between 0 nm to 15 nm is effective from January 20 through May 31. Trawl closure between 0 nm to 20 nm is effective from August 25 to November 1.
⁶Restriction area includes only waters of the Gulf of Alaska Area.
⁷Contact the Alaska Department of Fish and Game for fishery restrictions at these sites.
⁸No-fishing zones are the waters between 0 nm and the nm specified in column 7 around each site and within the BA.
⁹This site is located in the Bering Sea Pollock Restriction Area, closed to pollock trawling during the A season. This area consists of all waters of the Bering Sea subarea south of a line connecting the points 163°0′00″ W long./55°46′30″ N lat., 165°08′00″ W long./54°42′9″ N lat., 165°40′00″ long./54°26′30″ N lat., 166°12′00″ W long./54°18′40″ N lat., and 167°0′00″ W long./54°8′50″ N lat.
¹⁰The 20 nm closure around this site is effective in federal waters outside of State of Alaska waters of Prince William Sound.
¹¹Some or all of the restricted area is located in the Seguam Foraging area (SFA) which is closed to all gears types. The SFA is established as all waters within the area between 52° N lat. and 53° N lat. and between 173°30′ W long. and 172°30′ W long.
¹²The 3 nm trawl closure around Puale Bay and the 20 nm trawl closure around Cape Douglas/Shaw I. are effective January 20 through May 31. The 10 nm trawl closure around Puale Bay and the 10 nm trawl closure around Cape Douglas/Shaw I. are effective August 25 through November 1.

[FR Doc. 04-27698 Filed 12-17-04; 8:45 am]

BILLING CODE 3510-22-S